NEIGHBORHOOD REINVESTMENT CORPORATION

Regular Board of Directors Meeting; Sunshine Act

TIME AND DATE: 9:30 a.m., Tuesday, June 25, 2013.

PLACE: 999 North Capitol St NE., Suite 900, Gramlich Boardroom, Washington, DC 20002.

STATUS: Open.

CONTACT PERSON FOR MORE INFORMATION: Erica Hall, Assistant Corporate Secretary (202) 220-2376; ehall@nw.org.

AGENDA:

I. Call To Order

II. Approval of Minutes

III. Executive Session

IV. Board Elections & Appointments

V. CHC/NC Grants

VI. Financial Report

VII. DC Office Move

VIII. Homeownership Business Model

IX. FY 13 Milestone Report & Dashboard

X. LIFT

XI. MHA, NFMC & EHLP Reports

XII. Adjournment

Erica Hall,
Assistant Corporate Secretary.

[FR Doc. 2013-14757 Filed 6-17-13; 4:15 pm]

BILLING CODE 7570-02-P